ENVIRONMENTAL PROTECTION AGENCY

40 CFR Part 300

[EPA-HQ-SFUND-1983-0002; FRL-9918-37-Region 8]

National Oil and Hazardous Substances Pollution Contingency Plan; National Priorities List: Partial Deletion of the California Gulch Superfund Site

AGENCY: Environmental Protection Agency.

ACTION: Final rule.

SUMMARY: The Environmental Protection Agency (EPA) Region 8 announces the deletion of the Operable Unit 4 (OU4), Upper California Gulch; Operable Unit 5 (OU5), ASARCO Smelters/Slag/Mill Sites; and Operable Unit 7 (OU7), Apache Tailing Impoundment, of the California Gulch Superfund Site (Site) located in Lake County, Colorado, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the Operable Unit 4, Upper California Gulch (media of concern—waste rock and fluvial tailing piles); Operable Unit 5, ASARCO Smelters/Slag/Mill Sites (media of concern—slag and soil); and Operable Unit 7, Apache Tailing Impoundment (media of concern—tailing and soil), of the California Gulch Superfund Site (Site). Operable Unit 2, Malta Gulch; Operable Unit 8, Lower California Gulch; Operable Unit 9, Residential Populated Areas; and Operable Unit 10, Oregon Gulch were partially deleted by previous rules. Operable Unit 1, the Yak Tunnel/Water Treatment Plant; Operable Unit 3, the Denver & Rio Grande Western Railroad Company Slag Piles/Railroad Easement/Railroad Yard; Operable Unit 6, Starr Ditch/Penrose Dump/Stray Horse Gulch/Evans Gulch; Operable Unit 11, the Arkansas River Floodplain; and Operable Unit 12 (OU12), Site-wide Water Quality will remain on the NPL and is/are not being considered for deletion as part of this action. The EPA and the State of Colorado, through the Colorado Department of Public Health and the Environment, have determined that all appropriate response actions under CERCLA, other than operation, maintenance, and five-year reviews, have been completed. However, the deletion of these parcels does not preclude future actions under Superfund.

DATES: This action is effective October 24, 2014.

ADDRESSES: EPA has established a docket for this action under Docket Identification No. EPA-HQ-SFUND-1983-0002. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically in http://www.regulations.gov or in hard copy:

○ By calling EPA Region 8 at (303) 312-7279 and leaving a message, or

○ At the Lake County Public Library, 1115 Harrison Avenue, Leadville, CO 80461, (719) 486-0569, Monday and Wednesday from 10:00 a.m.-8:00 p.m., Tuesday and Thursday from 10:00 a.m.-5:00 p.m., and Friday and Saturday 1:00 p.m.-5:00 p.m.

FOR FURTHER INFORMATION CONTACT: Linda Kiefer, Remedial Project Manager, Environmental Protection Agency, Region 8, Mail Code 8EPR-SR, 1595 Wynkoop Street, Denver, CO 80202-1129, (303) 312-6689, email: kiefer.linda@epa.gov.

SUPPLEMENTARY INFORMATION: The portion of the site to be deleted from the NPL is: Operable Unit 4, Upper California Gulch; Operable Unit 5, ASARCO Smelters/Slag/Mill Sites; and Operable Unit 7, Apache Tailing Impoundment, of the California Gulch Superfund Site (Site) in Lake County, Colorado. A Notice of Intent for Partial Deletion for this Site was published in the Federal Register (79 FR 47043) on August 12, 2014.

The closing date for comments on the Notice of Intent for Partial Deletion was September 11, 2014. Two public comments were received. One comment supported the partial deletion. The other comment requested that the OU4, OU5 and OU7 not be partially deleted due to concerns over water quality. In response, water quality has greatly improved since the NPL listing in 1983. The Upper Arkansas was recently designated a Colorado Parks and Wildlife Gold Medal Fishing area. The media covered in OU4, OU5 and OU7 are wastes from mining, milling and smelting activities. The general remedial action objectives of OU4, OU5, and OU7 were to contain and control sources of contamination. Surface water and ground water quality were not specifically addressed in the remedies for these operable units. Site-wide water quality is specifically addressed in OU12, which is an active operable unit. Under OU12, response action can be conducted anywhere on the Site if needed to address releases that impact or may impact water quality goals in the Arkansas River. In OU4, OU5 and OU7, all responses actions have been completed and institutional controls are in place. A responsiveness summary was prepared and placed in both the docket, EPA-HQ-SFUND-1983-0002, on www.regulations.gov, and in the local repository listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 13626, 77 FR 56749, 3 CFR 2013 Comp., p. 306; E.O. 12777, 56 FR 54757, 3 CFR, 1991 Comp., p. 351; E.O.12580, 52 FR 2923, 3 CFR 1987 Comp., p. 193.

Dated: October 9, 2014.
Shaun L. McGrath,
Regional Administrator, Region 8.

[FR Doc. 2014-25286 Filed 10-23-14; 8:45 am]

BILLING CODE 6560-50-P